DEPARTMENT OF DEFENSE

Office of the Secretary of Defense

[DoD-2007-OS-0097]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on October 4, 2007 unless comments are received that would result in a contrary determination.

ADDRESSES: Send comments to OSD Privacy Act Coordinator, Office of Freedom of Information, Washington Headquarters Services, 1155 Defense Pentagon, Washington, DC 20301-1155.

FOR FURTHER INFORMATION CONTACT: Ms. Karen Finnegan at (703) 696-3081.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, was submitted on August 27, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 28, 2007.
L.M. Bynum,
Alternate OSD Federal Register Liaison Officer, Department of Defense.

DSMC 08

System name:

Research and Engineering Prize Competition

System location:

Defense Technical Information Center, 8725 John J. Kingman Road, Fort Belvoir, VA 22060-6218.

Categories of individuals covered by the system:

Members of the general public who request information and apply for the Research and Engineering Prize Competition Program and/or who sponsor applicants.

Categories of records in the system:

Individual's name, Tax ID or Social Security Number (SSN), home address, age, proof of citizenship (birth certificate, passport, or current U.S. drivers license), proof of U.S. residency (payroll stub, utility bill, property tax bill, automobile or life insurance bill, voter registration card, deed, mortgage document or statement, or residential lease/rental agreement), telephone number, and e-mail address. If applicant is a team of individuals, team name/organization, the entry title, and the physical description of entry.

Authority for maintenance of the system:

10 U.S.C. 2347a, as amended by the John Warner National Defense Authorization Act for Fiscal Year 2007; Public Law 109-364; DoDD 5134.3, Director of Defense Research and Engineering; DoD Financial Management Regulation, Volume 2, Budget Formulation and Presentation; DoDI 5000.2, Operation of the Defense Acquisition System; DoDI 7000.14-R; and E.O. 9397 (SSN).

Purpose(s):

To award cash prizes in recognition of outstanding achievements in basic, advanced, and applied research, technology development, and prototype development that have the potential for application to the military missions of the Department of Defense.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

DoD Contractor employees may have access to data on a need-to-know basis in performance of specific tasks related to the DDR&E prize competition

The DoD ‘Blanket Routine Uses' set forth at the beginning of the OSD compilation of systems of records notices apply to this system.

Policies and practices for storing, retrieving, accessing, retaining, and disposing of records in the system:

Storage:

Paper records in file folders and electronic storage media.

Retrievability:

Individual's name, Social Security Number (SSN) and/or Tax ID Number.

Safeguards:

Records are maintained in a controlled facility. Physical entry is restricted by the use of locks, guards, and is accessible only to authorized personnel. Access to records is limited to those personnel who require the records to perform their official duties. Access to computerized data is restricted by passwords, which are changed periodically.

Retention and disposal:

Records will be disposed of upon completion or cancellation of projects or earlier, as they serve their purpose, following the competition and then destroyed by shredding the discs and magnetic tape containing the information. Paper copy records will also be destroyed by shredding.

System manager(s) and address:

Prize Competition Manager, Deputy Under Secretary of Defense For Laboratories and Basic Sciences, Defense Research and Engineering, 3030 Defense Pentagon, Washington, DC 20301-3030.

Notification procedure:

Individuals seeking to determine whether information about themselves is contained in this system should address written inquiries to the Deputy Under Secretary of Defense For Laboratories and Basic Sciences, Director, Defense Research and Engineering, ATTN: Prize Competition Manager, 3030 Defense Pentagon, Washington, DC 20301-3030.

Requests should contain individual's name, Social Security (SSN), and a copy of a government issued identification card with photograph.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking access to information about themselves is contained in this system should address written inquiries to Deputy Under Secretary of Defense For Laboratories and Basic Sciences, Director, Defense Research and Engineering, ATTN: Prize Competition Manager, 3030 Defense Pentagon, Washington, DC 20301-3030.

Requests should contain individual's name, Social Security (SSN), and a copy of a government issued identification card with photograph.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

Rules for accessing records and for contesting contents and appealing initial determinations are contained in 32 C.F.R. part 311; or may be obtained from the system manager.

Record source categories:

The individual.

Exemptions claimed for the system:

None.

[FR Doc. E7-17448 Filed 8-31-07; 8:45 am]

BILLING CODE 5001-06-P